DEPARTMENT OF ENERGY

Federal Energy Regulatory Commission

Combined Notice of Filings

October 10, 2006.

Take notice that the Commission received the following electric rate filings:

Docket Numbers: ER96-780-015; ER01-1633-004; ER00-3240-007; ER03-1383-007.

Applicants: Southern Company Services, Inc.; Southern Company-Florida LLC; Oleander Power Project, L.P.; DeSoto County Generating Company, LLC.

Description: Southern Company Services, Inc. on behalf of Alabama Power Co. et al. submits a notice of non-material change in status regarding the characteristics that FERC previously authorized to transact market-base rates.

Filed Date: 10/02/2006.

Accession Number: 20061006-0026.

Comment Date: 5 p.m. Eastern Time on Monday, October 23, 2006.

Docket Numbers: ER02-783-005; ER02-852-005; ER02-855-005; ER01-2262-007.

Applicants: EPCOR Merchant and Capital (US) Inc.; EPCOR Power Development, Inc.; EPDC, Inc.; Frederick Power L.P.

Description: EPCOR Merchant and Capital (US) Inc. et al. submits an amendment to its 8/14/06 filing of a Notice of Change in Status re Market-Based Rate Authority.

Filed Date: 10/03/2006.

Accession Number: 20061005-0216.

Comment Date: 5 p.m. Eastern Time on Tuesday, October 24, 2006.

Docket Numbers: ER03-891-002.

Applicants: Gulf States Energy Investments L.P.

Description: Gulf States Energy Investments, LP submits an amended triennial updated market power analysis in compliances with FERC's Order 652.

Filed Date: 10/06/2006.

Accession Number: 20061010-0030.

Comment Date: 5 p.m. Eastern Time on Friday, October 27, 2006.

Docket Numbers: ER03-1288-002.

Applicants: Rocky Mountain Energy Center, LLC.

Description: Rocky Mountain Energy Center, LLC submits an triennial updated market analysis in accordance with the Commission's 10/3/03 letter order.

Filed Date: 10/03/2006.

Accession Number: 20061005-0044.

Comment Date: 5 p.m. Eastern Time on Tuesday, October 24, 2006.

Docket Numbers: ER05-1508-003.

Applicants: Midwest Independent Transmission System Operator, Inc.

Description: Midwest Independent Transmission System Operator, Inc submits an amendment to its 9/8/06 filing of the Large Generator Interconnection Agreement with Power Partners Midwest, LLC and Interstate Power & Company.

Filed Date: 10/04/2006.

Accession Number: 20061006-0005.

Comment Date: 5 p.m. Eastern Time on Wednesday, October 25, 2006.

Docket Numbers: ER06-1001-001.

Applicants: Midwest Independent Transmission System Operator, Inc.

Description: Midwest Independent Transmission System Operator, Inc submits its Substitute Third Revised Sheet 969 et al. to FERC Electric Tariff, Third Revised Volume No. 1.

Filed Date: 10/04/2006.

Accession Number: 20061005-0188.

Comment Date: 5 p.m. Eastern Time on Wednesday, October 25, 2006.

Docket Numbers: ER06-1331-000.

Applicants: CalPeak Power LLC.

Description: CalPeak Power LLC supplements its 8/2/06 application for acceptance of their initial market-based rate tariff etc, to clarify a statement in the application.

Filed Date: 10/04/2006.

Accession Number: 20061006-0001.

Comment Date: 5 p.m. Eastern Time on Wednesday, October 25, 2006.

Docket Numbers: ER06-1306-000.

Applicants: Sunbury Generation, LP.

Description: Sunbury Generation LP submits a notice of amendment to its 8/24/06 filing, notice of succession.

Filed Date: 10/04/2006.

Accession Number: 20061005-0218.

Comment Date: 5 p.m. Eastern Time on Wednesday, October 25, 2006.

Docket Numbers: ER06-1422-001.

Applicants: Louisville Gas & Electric Company; Kentucky Utilities Company

Description: Louisville Gas and Electric Co and Kentucky Utilities Co submit requests that the Commission find that they continue to be authorized to make sales of ARS energy to BREC not-withstanding recent changes to market based rate tariff.

Filed Date: 10/04/2006.

Accession Number: 20061006-0004.

Comment Date: 5 p.m. Eastern Time on Wednesday, October 25, 2006.

Docket Numbers: ER07-12-000.

Applicants: Southern California Edison Company.

Description: Southern California Edison Company submits its revised rate sheets to the Interconnection Facilities Agreement with NM Mid-Valley Genco, LLC.

Filed Date: 10/04/2006.

Accession Number: 20061006-0006.

Comment Date: 5 p.m. Eastern Time on Wednesday, October 25, 2006.

Docket Numbers: ER07-13-000.

Applicants: Dynegy Midwest Generation, Inc.

Description: Dynegy Midwest Generation, Inc submits revisions to its market-based rate tariff that would remove the outdated restriction on sales to Illinois Power Co.

Filed Date: 10/04/2006.

Accession Number: 20061006-0009.

Comment Date: 5 p.m. Eastern Time on Wednesday, October 25, 2006.

Docket Numbers: ER07-14-000.

Applicants: Southwest Power Pool, Inc.

Description: Southwest Power Pool, Inc submits notices of cancellation for Network Operating Agreements.

Filed Date: 10/04/2006.

Accession Number: 20061006-0008.

Comment Date: 5 p.m. Eastern Time on Wednesday, October 25, 2006.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-17173 Filed 10-16-06; 8:45 am]

BILLING CODE 6717-01-P